SOCIAL SECURITY ADMINISTRATION

[Docket No: SSA-2022-0050]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA. Comments: https://www.reginfo.gov/public/do/PRAMain. Submit your comments online referencing Docket ID Number [SSA-2022-0050].

(SSA) Social Security Administration, OLCA, Attn: Reports Clearance Director, 3100 West High Rise, 6401 Security Blvd., Baltimore, MD 21235, Fax: 410-966-2830, Email address: OR.Reports.Clearance@ssa.gov. Or you may submit your comments online through https://www.reginfo.gov/public/do/PRAMain, referencing Docket ID Number [SSA-2022-0050].

I. The information collection below is pending at SSA. SSA will submit it to OMB within 60 days from the date of this notice. To be sure we consider your comments, we must receive them no later than December 5, 2022. Individuals can obtain copies of the collection instrument by writing to the above email address.

Advance Designation of Representative Payee—0960-0814. On April 13, 2018, the President signed into law The Strengthening Protections for Social Security Beneficiaries Act of 2018, also known as Public Law (Pub. L.) 115-165. Section 201 of the law allows SSA beneficiaries and applicants under Title II, Title VIII and Title XVI, of the Social Security Act (Act) to designate individuals to serve as a representative payee should the need arise in the future. Section 201(j)(2) of Public Law 115-165 provides the requirements for selecting a qualified representative payee. SSA only offers the option to advance designate to capable adults and emancipated minors. Beneficiaries who have an assigned representative payee, or have a representative application in process, cannot advance designate. Form SSA-4547, Advance Designation of Representative Payee, allows beneficiaries or applicants the option to designate individuals in order of priority, to serve as a representative. Beneficiaries or applicants can update or change the advance designee order of priority at any time. SSA uses the information on Form SSA-4547 to select a qualified representative payee in order of priority. If the selected representative payee is unable or unwilling to serve, or meet SSA requirements, SSA will select another representative payee to serve in the beneficiaries and applicant's best interest. SSA will notify beneficiaries annually of the individuals they chose in advance to be their representative payee. The respondents are SSA beneficiaries and claimants who want to choose an advance designate representative.

Type of Request: Revision of an OMB-approved information collection.

Modality of completion | Number of respondents | Frequency of response | Average burden per response (minutes) | Estimated total annual burden (hours) | Average theoretical hourly cost amount (dollars) ** | Average wait time in field office (minutes) *** | Total annual opportunity cost (dollars) ****
Submission of Advance Designation
Intranet version (Paper Form SSA-4547, SSI Claims System, MCS, iMain) | * 473,052 | 1 | 6 | 47,305 | ** $19.86 | *** 24 | **** $4,697,406
Internet version (mySSA) | 327,101 | 1 | 6 | 32,710 | ** 19.86 |  | **** 649,621
Internet version (iClaim) | 827,257 | 1 | 6 | 82,726 | ** 19.86 |  | **** 1,642,938
Totals | 1,627,410 |  |  | 162,741 |  |  | **** 6,989,965
Waiver of Advance Designation
All Modalities (Intranet and Internet) | 1,314,978 | 1 | 2 | 43,833 | 19.86 |  | **** 870,523
Grand Totals
Totals | 2,942,388 |  |  | 206,574 |  |  | **** 7,860,488
* SSA enters advance designation information we receive on the paper Form SSA-4547 in the ADRP system using one of the Intranet applications. Accordingly, we have included the paper form responses in this figure for Intranet responses.
** We based this figure by averaging both the average DI payments based on SSA's current FY 2022 data (https://www.ssa.gov/legislation/2022factsheet.pdf), and the average U.S. worker's hourly wages, as reported by Bureau of Labor Statistics data (https://www.bls.gov/oes/current/oes_nat.htm).
*** We based this figure on the average FY 2022 wait times for field offices, based on SSA's current management information data.
**** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than November 7, 2022. Individuals can obtain copies of these OMB clearance packages by writing to OR.Reports.Clearance@ssa.gov.

1. Application for Child's Insurance Benefits—20 CFR 404.350-404.368, 404.603, & 416.350—0960-0010. Title II of the Act provides for the payment of monthly benefits to children of an insured retired, disabled, or deceased worker. Section 202(d) of the Act discloses the conditions and requirements the applicant must meet when filing an application. SSA uses the information on Form SSA-4-BK to determine entitlement for children of living and deceased workers to monthly Social Security payments. Respondents are guardians completing the form on behalf of the children of living or deceased workers, or the children of living or deceased workers.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-4-BK (Death Claim) paper | 1,178 | 1 | 12 | 236 | * $28.01 | 0 | *** $6,610
SSA-4-BK/(Death Claim) MCS Interview | 227,999 | 1 | 11 | 41,800 | * 28.01 | ** 24 | *** 3,725,330
SSA-4-BK (Life Claim) Paper | 2,180 | 1 | 12 | 436 | * 28.01 | 0 | *** 12,212
SSA-4-BK (Life Claim) MCS Interview | 284,245 | 1 | 11 | 52,112 | * 28.01 | ** 24 | *** 4,644,338
Totals | 515,602 |  |  | 94,584 |  |  | *** 8,388,490
* We based this figure on average U.S. citizen's hourly salary, as reported by Bureau of Labor Statistics data (https://www.bls.gov/oes/current/oes_nat.htm#00-0000).
** We based this figure on the average FY 2022 wait times for field offices, based on SSA's current management information data.
*** This figure does not represent actual costs that SSA is imposing on recipients of Social Security payments to complete this application; rather, these are theoretical opportunity costs for the additional time respondents will spend to complete the application. There is no actual charge to respondents to complete the application.

2. Statement for Determining Continuing Eligibility, Supplemental Security Income Payment(s)—416.204—0960-0416. SSA conducts redeterminations of disability to determine whether Supplemental Security Income (SSI) recipients: (1) have met and continue to meet all statutory and regulatory requirements for SSI eligibility; and (2) are receiving the correct SSI payment amount. SSA makes these redeterminations through periodic use of Form SSA-8203-BK. SSA conducts this legally mandated information collection in field offices via personal contact (face-to-face or telephone interview) using the automated SSI Claim System. The respondents are SSI recipients or their representative payees.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-8203-BK (paper version) | 44,396 | 1 | 20 | 14,799 | * $19.86 | ** 21 | *** $602,513
SSA-8203-BK (SSI Claims system) | 1,918,702 | 1 | 19 | 607,589 | * 19.86 | ** 21 | *** 25,403,621
Totals | 1,963,098 |  |  | 622,388 |  |  | *** 26,006,134
* We based this figure by averaging both the average DI payments based on SSA's current FY 2022 data (https://www.ssa.gov/legislation/2022factsheet.pdf), and the average U.S. worker's hourly wages, as reported by Bureau of Labor Statistics data (https://www.bls.gov/oes/current/oes_nat.htm).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

3. Request to Withdraw a Hearing Request; Request to Withdraw an Appeals Council Request for Review; and Administrative Review Process for Adjudicating Initial Disability Claims—20 CFR parts 404, 405, and 416—0960-0710. Claimants have a statutory right under the Act and current regulations to apply for Social Security Disability Insurance (SSDI) benefits SSI payments. SSA collects information at each step of the administrative process to adjudicate claims fairly and efficiently. SSA collects this information to establish a claimant's right to administrative review, and determine the severity of the claimant's alleged impairments. SSA uses the information we collect to determine entitlement or continuing eligibility to SSDI benefits or SSI payments, and to enable appeals of these determinations. In addition, SSA collects information on Forms HA-85 and HA-86 to allow claimants to withdraw a hearing request or an Appeals Council review request. The respondents are applicants for Title II SSDI or Title XVI SSI benefits; their appointed representatives; legal advocates; medical sources; and schools.

Type of Request: Revision of an OMB- approved information collection.

Regulation sections | Number of respondents | Frequency of response | Average burden per response (minutes) | Estimated total annual burden (hours) | Average theoretical hourly cost amount (dollars) * | Total annual opportunity cost (dollars) **
404.961, 416.1461, 405.330, and 405.366 | 12,220 | 1 | 20 | 4,073 | * $19.86 | ** $80,890
404.950, 416.1450, and 405.332 | 1,040 | 1 | 20 | 347 | * 19.86 | ** 6,891
404.949 and 416.1449 | 2,868 | 1 | 60 | 2,868 | * 19.86 | ** 56,958
405.334 | 20 | 1 | 60 | 20 | * 19.86 | ** 397
404.957, 416.1457, and 405.380 | 21,041 | 1 | 10 | 3,507 | * 19.86 | ** 69,649
405.381 | 37 | 1 | 30 | 19 | * 19.86 | ** 377
405.401 | 5,310 | 1 | 10 | 885 | * 19.86 | ** 17,576
404.971 and 416.1471 (HA-85 & e85; HA-86 & e86) | 1,606 | 1 | 10 | 268 | * 19.86 | ** 5,322
404.982 and 416.1482 | 1,687 | 1 | 30 | 844 | * 19.86 | ** 16,762
404.987 & 404.988 and 416.1487 & 416.1488 and 405.601 | 12,425 | 1 | 30 | 6,213 | * 19.86 | ** 123,390
404.1740(b)(1) | 150 | 1 | 2 | 5 | * 19.86 | ** 99
416.1540(b)(1) | 150 | 1 | 2 | 5 | * 19.86 | ** 99
404.1512, 404.1740(c)(4), 416.912, and 416.1540(c)(4) | 150 | 1 | 2 | 5 | * 19.86 | ** 99
405.372(c) | 5,310 | 1 | 10 | 885 | * 19.86 | ** 17,576
405.1(b)(5) 405.372(b) | 833 | 1 | 30 | 417 | * 19.86 | ** 8,282
405.505 | 833 | 1 | 30 | 417 | * 19.86 | ** 8,282
405.1(c)(2) | 5,310 | 1 | 10 | 885 | * 19.86 | ** 17,576
405.20 | 5,310 | 1 | 10 | 885 | * 19.86 | ** 17,576
Totals | 76,300 |  |  | 22,548 |  | ** 447,801
* We based this figure by averaging both the average DI payments based on SSA's current FY 2022 data (https://www.ssa.gov/legislation/2022factsheet.pdf), and the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

4. Electronic SSDI and SSI Wage Reporting: myWageReport, SSA Mobile Wage Reporting, and Supplemental Security Income Telephone Wage Reporting—20 CFR 404.1520(b), 404.1571-1576, 404.1584-1593, & 416.701-416.732—0960-0715. SSA requires SSDI beneficiaries or their representative payees to report changes when beneficiaries return to work, when their amount of work increases, or when their earnings increase. Similarly, SSA requires recipients of SSI, their deemors, and representative payees to report changes in work and monthly wages. SSA allows SSDI beneficiaries, SSI recipients, deemors, and representative payees to report earnings via electronic means, though the methods available depend on the type of benefits received. SSDI users may report wages using an internet reporting system called myWageReport. myWageReport is a secure internet reporting tool within the mySSA portal that enables SSDI beneficiaries to submit pay stub information to SSA. In addition to myWageReport, SSI users have two other electronic options, the SSA Mobile Wage Reporting application (SSAMWR) and the SSI Telephone Wage Reporting System (SSITWR). The SSITWR allows callers to report their wages by speaking their responses through voice recognition technology, or by keying in responses using a telephone key pad. The SSAMWR allows recipients to report their wages through the mobile wage reporting application on their smartphone. SSITWR and SSAMWR systems collect the same information and send it to SSA over secure channels. To ensure the security of the information provided, SSITWR and SSAMWR ask respondents to provide information SSA can compare against our records for authentication purposes. Once the system authenticates the identity of the respondents, they can report their wage data. The respondents are SSDI beneficiaries, SSI recipients, SSI deemors, or representative payees.

Type of Request: Revision of an OMB-approved information collection.

Modality of completion | Number of respondents | Frequency of response | Number of responses | Average burden per response (minutes) | Estimated total annual burden (hours) | Average theoretical hourly cost amount (dollars) ** | Total annual opportunity cost (dollars) ***
Training/Instruction * | 108,280 | 1 | 108,280 | 35 | 63,163 | ** $19.86 | *** $1,254,417
myWageReport | 3,557 | 12 | 42,684 | 7 | 4,980 | ** 19.86 | *** 98,903
SSITWR | 16,341 | 12 | 196,092 | 5 | 16,341 | ** 19.86 | *** 324,532
SSAMWR | 88,382 | 12 | 1,060,584 | 6 | 106,058 | ** 19.86 | *** 2,106,312
Totals | 216,560 |  | 1,407,640 |  | 190,542 |  | *** 3,784,164
* SSI respondents complete training and a modality of collection. SSA is not able to break down the number of new wage reporters who receive training and longtime wage reporters who did not receive training; therefore, the actual number may be less than the estimate we provided. SSA collects management information data based on the number of transactions; the number of respondents has been extrapolated from that number. We do not collect MI on unique reporters.
** We based this figure by averaging both the average DI payments based on SSA's current FY 2022 data (https://www.ssa.gov/legislation/2022factsheet.pdf), and the average U.S. worker's hourly wages, as reported by Bureau of Labor Statistics data (https://www.bls.gov/oes/current/oes_nat.htm).
*** This figure does not represent actual costs that SSA is imposing on recipients of Social Security payments to complete this application; rather, these are theoretical opportunity costs for the additional time respondents will spend to complete the application. There is no actual charge to respondents to complete the application.

5. Government-to-Government Services Online website Registration Form; Government-to-Government Services Online website Account Modification/Deletion Form—20 CFR 401.45—0960-0757. The Government-to-Government Services Online (GSO) website allows various external organizations to submit files to a variety of SSA systems and, in some cases, receive files in return. The SSA systems that process data transferred via GSO include, but are not limited to, systems responsible for disability processing and benefit determination or termination. SSA uses the information on Form SSA-159, GSO website Registration Form, to register the requestor to use the GSO website. Once we receive the SSA-159, SSA provides the user with account information and conducts a walkthrough of the GSO website as necessary. Established organizations may submit Form SSA-159 to register additional users as well. The established requesting organizations can also complete Form SSA-160, GSO website Account Modification/Deletion Form, to modify their online accounts (e.g., address change). Respondents are State and local government agencies, and some private sector business entities.

Type of Request: Revision of an OMB-approved information collection.

Modality of completion | Number of respondents | Frequency of response | Average burden per response (minutes) | Estimated total annual burden (hours) | Average theoretical hourly cost amount (dollars) * | Total annual opportunity cost (dollars) **
SSA-159 | 1,354 | 1 | 15 | 339 | * 21.13 | ** $7,163
SSA-160 | 430 | 1 | 15 | 108 | * 21.13 | ** 2,282
Totals | 1,784 |  |  | 447 |  | ** 9,445
* We based these figures on average Information and Record Keeping Analysts' hourly salary, as reported by Bureau of Labor Statistics data (https://www.bls.gov/oes/current/oes434199.htm).
* **This figure does not represent actual costs that SSA is imposing on recipients of Social Security payments to complete this application; rather, these are theoretical opportunity costs for the additional time respondents will spend to complete the application. There is no actual charge to respondents to complete the application.

6. Application Status—20 CFR 401.45—0960-0763. Application Status provides users with the capability to check the status of their pending Social Security claims via the National 800 Number Automated Telephone Service. Users need their SSN and a confirmation number to access this information. SSA systems determine the type of claim(s) the caller filed based upon the information provided. Subsequently, the automated telephone system provides callers with the option to choose the claim for which they wish to obtain status. If the caller applied for multiple claims, the automated system allows the caller to select only one claim at a time. Once callers select the claim(s) they are calling about, an automated voice advises them of the status of their claim. The respondents are current Social Security claimants who wish to check on the status of their claims.

Type of Request: Revision of an OMB-approved information collection.

Modality of completion | Number of respondents | Frequency of response | Average burden per response (minutes) | Estimated total annual burden hours (hours) | Average theoretical hourly cost (dollars) * | Average wait for teleservice centers (minutes) ** | Total annual opportunity cost (dollars) ***
Application Status | 790,821 | 1 | 3 | 39,541 | $19.86 * | 19 ** | $5,758,764 ***
* We based this figure by averaging both the average DI payments based on SSA's current FY 2022 data (https://www.ssa.gov/legislation/2022factsheet.pdf), and the average U.S. worker's hourly wages, as reported by Bureau of Labor Statistics data (https://www.bls.gov/oes/current/oes_nat.htm).
** We based this figure by averaging the average FY 2022 wait times for teleservice centers, based on SSA's current management information data.
*** This figure does not represent actual costs that SSA is imposing on recipients of Social Security payments to complete this application; rather, these are theoretical opportunity costs for the additional time respondents will spend to complete the application. There is no actual charge to respondents to complete the application.

7.Report of Adult Functioning-Employer—20 CFR 404.1512 and 416.912—0960-0805. Under the authority provided in sections 205(a), 223(d)(5)(A), 1631(d)(1), and 1631(e)(1) of the Act, the agency may collect information from each applicant for, or recipient of (collectively referred to as “claimant”), disability insurance benefits (DIB) or SSI payments. We use this information as evidence to help us determine eligibility or continued eligibility for DIB or SSI. These sections of the Act grant us the authority to establish procedures for collecting and verifying this evidence. Sections 20 CFR 404.1512 and 20 CFR 416.912 of the Code of Federal Regulations provide detailed requirements for the types of evidence we request claimants provide showing how their impairment(s) affects their ability to work (e.g., medical, work experience, daily activities, efforts to work). When SSA's Disability Determination Service adjudicative team determines that SSA needs additional information to process an applicant's or claimant's case, we use Form SSA-3385, Report of Adult Functioning—Employer, to collect information from a claimant's current or former employer on an as needed basis, to collect information regarding the claimant's job performance as evidence to help inform the disability eligibility for the claimant. We send the SSA-3385 with a pre-addressed and stamped envelope to a claimant's direct supervisor, or another person who has direct knowledge of the claimant's job performance and ask that individual to provide information about the claimant's day-to-day functioning in a work setting. The respondent completes Form SSA-3385 and sends it back to SSA in the enclosed envelope. Once SSA receives the SSA-3385, the field office scans the form into the claimant's electronic folder. Then the Disability Determination Service adjudicative team uses this information to evaluate the claimant's impairment-related functional limitations to determine eligibility or continued eligibility for SSDI or SSI. The respondents are current or former employers who are contacted only when the adjudicative team decides additional information is necessary and the employer may be a good source for the information.

Type of Request: Revision of an OMB-approved information collection.

Modality of completion | Number of respondents | Frequency of response | Average burden per response (minutes) | Estimated total annual burden (hours) | Average theoretical hourly cost amount (dollars) * | Total annual opportunity cost (dollars) **
SSA-3385 | 3,601 | 1 | 20 | 1,200 | $28.01 * | $33,612 **
* We based this figure on the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Dated: September 30, 2022.
Naomi Sipple,
Reports Clearance Officer, Social Security Administration.

[FR Doc. 2022-21667 Filed 10-5-22; 8:45 am]

BILLING CODE 4191-02-P